DEPARTMENT OF COMMERCE

International Trade Administration

[A-570-882]

Refined Brown Aluminum Oxide From the People's Republic of China: Continuation of Antidumping Order

AGENCY: Enforcement and Compliance, International Trade Administration, Department of Commerce.

SUMMARY: As a result of the determinations by the Department of Commerce (Commerce) and the International Trade Commission (ITC) that revocation of the antidumping duty (AD) order on refined brown aluminum oxide (RBAO) from the People's Republic of China (China) would likely lead to continuation or recurrence of dumping and material injury to an industry in the United States, Commerce is publishing a notice of continuation of this AD order.

DATES: Applicable March 6, 2020.

FOR FURTHER INFORMATION CONTACT: Ian Hamilton, Office II, AD/CVD Operations, Enforcement and Compliance, International Trade Administration, U.S. Department of Commerce, 1401 Constitution Avenue NW, Washington, DC 20230; telephone: (202) 482-4798.

SUPPLEMENTARY INFORMATION:

Background

On November 19, 2003, Commerce published its antidumping duty (AD) order on RBAO from China in the Federal Register.¹ In September 2019, the ITC instituted,² and Commerce initiated,³ the third sunset review of the AD order on RBAO from China, pursuant to section 751(c) of the Tariff Act of 1930, as amended (the Act). As a result of its review, Commerce determined that revocation of the Order on RBAO from China would likely lead to continuation or recurrence of dumping and notified the ITC of the magnitude of the margins of dumping likely to prevail were the Order revoked.⁴

¹ See Antidumping Duty Order: Refined Brown Aluminum Oxide (Otherwise Known as Refined Brown Artificial Corundum or Brown Fused Alumina) from the People's Republic of China, 68 FR 65249 (November 19, 2003) (Order).

² See Refined Brown Aluminum Oxide from China; Institution of Five-Year Review, 84 FR 46047 (September 3, 2019).

³ See Initiation of Five-Year (Sunset) Review, 84 FR 47485 (September 10, 2019).

⁴ See Diffusion-Annealed Nickel-Plated Flat-Rolled Steel Products from Japan: Final Results of the Expedited First Five-Year Sunset Review of the Antidumping Duty Order, 84 FR 38001 (August 5, 2019), and accompanying Issues and Decision Memorandum.

On February 25, 2020, the ITC published its determination, pursuant to sections 751(c) and 752(a) of the Act, that revocation of the Order would likely lead to continuation or recurrence of material injury to an industry in the United States within a reasonably foreseeable time.⁵

⁵ See Refined Brown Aluminum Oxide from China (Inv. No. 731-TA-1022 (Third Review)), 85 FR 10723 (February 25, 2020); see also Refined Brown Aluminum Oxide from China (Inv. No. 731-TA-1022 (Third Review), USITC Publication 5020, February 2020.

Scope of the Order

The merchandise covered by this order is ground, pulverized or refined brown artificial corundum, also known as brown aluminum oxide or brown fused alumina, in grit size of ⅜ inch or less. Excluded from the scope of the order is crude artificial corundum in which particles with a diameter greater than ⅜ inch constitute at least 50 percent of the total weight of the entire batch. The scope includes brown artificial corundum in which particles with a diameter greater than ⅜ inch constitute less than 50 percent of the total weight of the batch. The merchandise under investigation is currently classifiable under subheadings 2818.10.20.00 and 2818.10.20.90 of the Harmonized Tariff Schedule of the United States (HTSUS). Although the HTSUS subheading is provided for convenience and customs purposes, the written description of the merchandise covered by the order is dispositive.

Continuation of the Order

As a result of the determinations by Commerce and the ITC that revocation of the Order would likely lead to a continuation or a recurrence of dumping and of material injury to an industry in the United States, pursuant to section 751(d)(2) of the Act and 19 CFR 351.218(a), Commerce hereby orders the continuation of the Order. U.S. Customs and Border Protection (CBP) will continue to collect AD cash deposits at the rates in effect at the time of entry for all imports of subject merchandise. The effective date of the continuation of the Order will be the date of publication in the Federal Register of this notice of continuation. Pursuant to section 751(c)(2) of the Act and 19 CFR 351.218(c)(2), Commerce intends to initiate the next five-year review of the Order not later than 30 days prior to the fifth anniversary of the effective date of continuation.

Administrative Protective Order

This notice also serves as the only reminder to parties subject to administrative protective order (APO) of their responsibility concerning the return/destruction or conversion to judicial protective order of proprietary information disclosed under APO in accordance with 19 CFR 351.305(a)(3). Failure to comply is a violation of the APO which may be subject to sanctions.

Notification to Interested Parties

This five-year (sunset) review and this notice are in accordance with sections 751(c) and (d)(2) of the Act and published in accordance with section 777(i) of the Act, and 19 CFR 351.218(f)(4).

Dated: February 25, 2020.
Jeffrey I. Kessler,
Assistant Secretary for Enforcement and Compliance.

[FR Doc. 2020-04624 Filed 3-5-20; 8:45 am]

BILLING CODE 3510-DS-P